DEPARTMENT OF ENERGY

Federal Energy Regulatory Commission

Combined Notice of Filings # 1

Take notice that the Commission received the following exempt wholesale generator filings:

Docket Numbers: EG23-241-000.

Applicants: EnerSmart Los Coches BESS LLC.

Description: EnerSmart Los Coches BESS LLC submits Notice of Self-Certification of Exempt Wholesale Generator Status.

Filed Date: 7/25/23.

Accession Number: 20230725-5192.

Comment Date: 5 p.m. ET 8/15/23.

Take notice that the Commission received the following Complaints and Compliance filings in EL Dockets:

Docket Numbers: EL23-85-000.

Applicants: National Grid Renewables Development, LLC, et al. v. Midcontinent Independent System Operator, Inc.

Description: Complaint of National Grid Renewables Development, LLC, et al. v. Midcontinent Independent System Operator, Inc.

Filed Date: 7/25/23.

Accession Number: 20230725-5179.

Comment Date: 5 p.m. ET 8/14/23.

Docket Numbers: EL23-86-000.

Applicants: NineDot Energy, LLC.

Description: Petition for Declaratory Order of The Carlyle Group Inc. and NineDot Energy, LLC.

Filed Date: 7/25/23.

Accession Number: 20230725-5191.

Comment Date: 5 p.m. ET 8/24/23.

Take notice that the Commission received the following electric rate filings:

Docket Numbers: ER23-1816-001.

Applicants: New York Independent System Operator, Inc., New York State Electric & Gas Corporation.

Description: Tariff Amendment: New York State Electric & Gas Corporation submits tariff filing per 35.17(b): NYSEG Deficiency Response re: Rate Schedule 19 Formula Rate Filing to be effective 7/3/2023.

Filed Date: 7/26/23.

Accession Number: 20230726-5079.

Comment Date: 5 p.m. ET 8/16/23.

Docket Numbers: ER23-1817-001.

Applicants: New York Independent System Operator, Inc., New York State Electric & Gas Corporation.

Description: Tariff Amendment: Rochester Gas and Electric Corporation submits tariff filing per 35.17(b): RG&E Deficiency Response re: Rate Schedule 19 Formula Rate Filing to be effective 7/3/2023.

Filed Date: 7/26/23.

Accession Number: 20230726-5077.

Comment Date: 5 p.m. ET 8/16/23.

Docket Numbers: ER23-2113-000.

Applicants: ETEM Remediation Two LLC.

Description: Supplement to June 9, 2023 ETEM Remediation Two LLC tariff filing.

Filed Date: 7/24/23.

Accession Number: 20230724-5230.

Comment Date: 5 p.m. ET 7/28/23.

Docket Numbers: ER23-2409-000.

Applicants: The Potomac Edison Company.

Description: The Potomac Edison Company submits notice of cancellation of its reactive power tariff from The Potomac Edison Company Rate Schedule FERC No. 2.

Filed Date: 7/14/23.

Accession Number: 20230714-5212.

Comment Date: 5 p.m. ET 8/4/23.

Docket Numbers: ER23-2482-000.

Applicants: Midcontinent Independent System Operator, Inc.

Description: § 205(d) Rate Filing: 2023-07-26_SA 3475 ATXI-City of Roses Wind Energy 2nd Rev GIA (J848) to be effective 7/20/2023.

Filed Date: 7/26/23.

Accession Number: 20230726-5024.

Comment Date: 5 p.m. ET 8/16/23.

Docket Numbers: ER23-2483-000.

Applicants: ISO New England Inc., Versant Power.

Description: § 205(d) Rate Filing: ISO New England Inc. submits tariff filing per 35.13(a)(2)(iii: Versant Power—Changes to Versant Power Depreciation Rates to be effective 1/1/2025.

Filed Date: 7/26/23.

Accession Number: 20230726-5033.

Comment Date: 5 p.m. ET 8/16/23.

Docket Numbers: ER23-2484-000.

Applicants: PJM Interconnection, L.L.C.

Description: § 205(d) Rate Filing: Revisions on Market Participation of Hybrid Resources to be effective 11/1/2023.

Filed Date: 7/26/23.

Accession Number: 20230726-5042.

Comment Date: 5 p.m. ET 8/16/23.

Docket Numbers: ER23-2485-000.

Applicants: Southwest Power Pool, Inc.

Description: § 205(d) Rate Filing: 3552R3 TEA and MEAN Meter Agent Agreement to be effective 7/1/2023.

Filed Date: 7/26/23.

Accession Number: 20230726-5043.

Comment Date: 5 p.m. ET 8/16/23.

Docket Numbers: ER23-2486-000.

Applicants: PJM Interconnection, L.L.C.

Description: § 205(d) Rate Filing: Amendment to ISA, SA No. 4963; Queue No. V4-027 (amend) to be effective 9/25/2023.

Filed Date: 7/26/23.

Accession Number: 20230726-5048.

Comment Date: 5 p.m. ET 8/16/23.

Docket Numbers: ER23-2487-000.

Applicants: Midcontinent Independent System Operator, Inc., Ameren Services Company.

Description: § 205(d) Rate Filing: Midcontinent Independent System Operator, Inc. submits tariff filing per 35.13(a)(2)(iii: 2023-07-26_Ameren Companies Request for Transmission Rate Incentives to be effective 9/25/2023.

Filed Date: 7/26/23.

Accession Number: 20230726-5063.

Comment Date: 5 p.m. ET 8/16/23.

Docket Numbers: ER23-2488-000.

Applicants: Luz Solar Partners Ltd., VIII.

Description: Tariff Amendment: Notice of Cancellation to be effective 7/27/2023.

Filed Date: 7/26/23.

Accession Number: 20230726-5069.

Comment Date: 5 p.m. ET 8/16/23.

Docket Numbers: ER23-2489-000.

Applicants: Alabama Power Company, Georgia Power Company, Mississippi Power Company.

Description: § 205(d) Rate Filing: Alabama Power Company submits tariff filing per 35.13(a)(2)(iii: Cooperative Energy NITSA Amendment Filing (Remove Maxie DP) to be effective 6/26/2023.

Filed Date: 7/26/23.

Accession Number: 20230726-5075.

Comment Date: 5 p.m. ET 8/16/23.

Docket Numbers: ER23-2490-000.

Applicants: Midcontinent Independent System Operator, Inc.

Description: § 205(d) Rate Filing: 2023-07-26_SA 4137 Duke-Ratts 2-Ratts 1-Elliott MPFCA (J1027 J1028 J1074 J1189) to be effective 9/25/2023.

Filed Date: 7/26/23.

Accession Number: 20230726-5089.

Comment Date: 5 p.m. ET 8/16/23.

Docket Numbers: ER23-2491-000.

Applicants: ISO New England Inc., The Narragansett Electric Company.

Description: § 205(d) Rate Filing: ISO New England Inc. submits tariff filing per 35.13(a)(2)(iii: ISO-NE/The Narragansett Electric Company; 1st Rev LGIA-ISONE/NEP-21-01 to be effective 1/1/2023.

Filed Date: 7/26/23.

Accession Number: 20230726-5095.

Comment Date: 5 p.m. ET 8/16/23.

Docket Numbers: ER23-2492-000.

Applicants: Gunvor USA LLC.

Description: Baseline eTariff Filing: Baseline new to be effective 9/24/2023.

Filed Date: 7/26/23.

Accession Number: 20230726-5103.

Comment Date: 5 p.m. ET 8/16/23.

Docket Numbers: ER23-2493-000.

Applicants: PJM Interconnection, L.L.C.

Description: § 205(d) Rate Filing: Original NSA, Service Agreement No. 7032; Queue No. AC2-060/AD1-073 to be effective 9/25/2023.

Filed Date: 7/26/23.

Accession Number: 20230726-5104.

Comment Date: 5 p.m. ET 8/16/23.

Take notice that the Commission received the following electric securities filings:

Docket Numbers: ES23-56-000; ES23-57-000; ES23-58-000; ES23-59-000; ES23-60-000; ES23-61-000.

Applicants: AEP Generating Company, AEP Texas Inc., Kentucky Power Company, Kingsport Power Company, Public Service Company of Oklahoma, Wheeling Power Company.

Description: Application Under Section 204 of the Federal Power Act for Authorization to Issue Securities of AEP Generating Company, et al.

Filed Date: 7/25/23.

Accession Number: 20230725-5213.

Comment Date: 5 p.m. ET 8/15/23.

Docket Numbers: ES23-62-000; ES23-63-000; ES23-64-000.

Applicants: Appalachian Power Company, Indiana Michigan Power Company, Southwestern Electric Power Company

Description: Application Under Section 204 of the Federal Power Act for Authorization to Issue Securities of Appalachian Power Company, etal.

Filed Date: 7/25/23.

Accession Number: 20230725-5214.

Comment Date: 5 p.m. ET 8/15/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

Dated: July 26, 2023.
Kimberly D. Bose,
Secretary.

[FR Doc. 2023-16302 Filed 7-31-23; 8:45 am]

BILLING CODE 6717-01-P